SECURITIES AND EXCHANGE COMMISSION

[File No. 500-1]

In the Matter of: Amalgamated Explorations, Inc., Areawide Cellular, Inc., Genomed, Inc., Global Maintech Corp., Military Resale Group, Inc., Verado Holdings, Inc., and World Transport Authority, Inc.; Order of Suspension of Trading

It appears to the Securities and Exchange Commission that there is a lack of current and accurate information concerning the securities of Amalgamated Explorations, Inc. because it has not filed any periodic reports since the period ended March 31, 2000.

It appears to the Securities and Exchange Commission that there is a lack of current and accurate information concerning the securities of Areawide Cellular, Inc. because it has not filed any periodic reports since the period ended September 30, 2002.

It appears to the Securities and Exchange Commission that there is a lack of current and accurate information concerning the securities of Genomed, Inc. because it has not filed any periodic reports since the period ended March 31, 2005.

It appears to the Securities and Exchange Commission that there is a lack of current and accurate information concerning the securities of Global Maintech Corp. because it has not filed any periodic reports since the period ended December 31, 2002.

It appears to the Securities and Exchange Commission that there is a lack of current and accurate information concerning the securities of Military Resale Group, Inc. because it has not filed any periodic reports since the period ended September 30, 2004.

It appears to the Securities and Exchange Commission that there is a lack of current and accurate information concerning the securities of Verado Holdings, Inc. because it has not filed any periodic reports since the period ended September 30, 2001.

It appears to the Securities and Exchange Commission that there is a lack of current and accurate information concerning the securities of World Transport Authority, Inc. because it has not filed any periodic reports since the period ended March 31, 2004.

The Commission is of the opinion that the public interest and the protection of investors require a suspension of trading in the securities of the above-listed companies. Therefore, it is ordered, pursuant to Section 12(k) of the Securities Exchange Act of 1934, that trading in the securities of the above-listed companies is suspended for the period from 9:30 a.m. EST on March 3, 2010, through 11:59 p.m. EDT on March 16, 2010.

By the Commission.
Elizabeth M. Murphy,
Secretary.

[FR Doc. 2010-4801 Filed 3-3-10; 4:15 pm]

BILLING CODE 8011-01-P